DEPARTMENT OF ENERGY

Federal Energy Regulatory Commission

Combined Notice of Filings #2

Take notice that the Commission received the following electric rate filings:

Docket Numbers: ER19-1137-003.

Applicants: Southwest Power Pool, Inc.

Description: Compliance filing: Request for Deferral of Effective Date—East Texas Cooperatives Stated Rate to be effective N/A.

Filed Date: 5/21/19.

Accession Number: 20190521-5091.

Comments Due: 5 p.m. ET 6/11/19.

Docket Numbers: ER19-1912-000.

Applicants: Southwest Power Pool, Inc.

Description: § 205(d) Rate Filing: 3551 Rainbow Energy Marketing & Sunflower Meter Agent Agr to be effective 5/1/2019.

Filed Date: 5/21/19.

Accession Number: 20190521-5087.

Comments Due: 5 p.m. ET 6/11/19.

Docket Numbers: ER19-1913-000.

Applicants: PJM Interconnection, L.L.C.

Description: Tariff Cancellation: Notice of Cancellation of ISA, SA No. 5258; Queue No. AC1-085 to be effective 5/7/2019.

Filed Date: 5/21/19.

Accession Number: 20190521-5098.

Comments Due: 5 p.m. ET 6/11/19.

Docket Numbers: ER19-1914-000.

Applicants: Arizona Public Service Company.

Description: § 205(d) Rate Filing: Rate Schedule No. 292, Cochise County Joint Participation to be effective 7/21/2019.

Filed Date: 5/21/19.

Accession Number: 20190521-5104.

Comments Due: 5 p.m. ET 6/11/19.

Docket Numbers: ER19-1915-000.

Applicants: Arizona Public Service Company.

Description: § 205(d) Rate Filing: Service Agreement No. 372, Cochise County Mutual Standby Agreement to be effective 7/21/2019.

Filed Date: 5/21/19.

Accession Number: 20190521-5105.

Comments Due: 5 p.m. ET 6/11/19.

Docket Numbers: ER19-1916-000.

Applicants: Louisville Gas and Electric Company.

Description: Compliance filing: Order No. 845 Compliance Filing to be effective 5/22/2019.

Filed Date: 5/21/19.

Accession Number: 20190521-5106.

Comments Due: 5 p.m. ET 6/11/19.

Docket Numbers: ER19-1917-000.

Applicants: Liberty Utilities (Granite State Electric) Corp.

Description: § 205(d) Rate Filing: Borderline Sales Rate Sheet Update 2019 to be effective 5/22/2019.

Filed Date: 5/21/19.

Accession Number: 20190521-5107.

Comments Due: 5 p.m. ET 6/11/19.

Docket Numbers: ER19-1918-000.

Applicants: Duke Energy Florida, LLC.

Description: § 205(d) Rate Filing: DEF-Seminole Electric Cooperative, Inc. Revised Rate Sch. No. 194 to be effective 6/1/2019.

Filed Date: 5/21/19.

Accession Number: 20190521-5108.

Comments Due: 5 p.m. ET 6/11/19.

Docket Numbers: ER19-1920-000.

Applicants: Tampa Electric Company.

Description: Compliance filing: LGIP and LGIA Revisions per Order No. 845 to be effective 5/22/2019.

Filed Date: 5/21/19.

Accession Number: 20190521-5114.

Comments Due: 5 p.m. ET 6/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2019.
Nathaniel J. Davis, Sr.,
Deputy Secretary.

[FR Doc. 2019-11159 Filed 5-24-19; 8:45 am]

BILLING CODE 6717-01-P